NUCLEAR REGULATORY COMMISSION

Notice of Availability of the Final Interim Staff Guidance DC/COL-ISG-08 on the Necessary Content of Plant-Specific Technical Specifications for a Combined License

AGENCY: Nuclear Regulatory Commission (NRC).

ACTION: Notice of availability.

SUMMARY: The NRC is issuing its Final Interim Staff Guidance (ISG) DC/COL-ISG-08 (Agencywide Documents Access and Management System (ADAMS) Accession No. ML083310259). The purpose of this ISG is to change the NRC staff position on the necessary content of plant-specific technical specifications (PTS) when a combined license (COL) is issued. This ISG clarifies the staff guidance contained in Regulatory Guide (RG) 1.206, “Combined License Applications for Nuclear Power Plants,” Section C.III.4.3, “Combined License Information Items That Cannot Be Resolved Before the Issuance of a License,” and replaces the related guidance in NUREG-0800, “Standard Review Plan for the Review of Safety Analysis Reports for Nuclear Power Plants,” Chapter 16.0, “Technical Specifications,” Revision 2, dated March 2007, regarding the content of PTS to support issuing a COL. The NRC staff issues DC/COL-ISGs to facilitate timely implementation of the current staff guidance and to facilitate activities associated with the review of applications for standard design certifications (DCs) and COLs by the Office of New Reactors. The NRC staff will also incorporate the approved DC/COL-ISG-08 into the next revisions of RG 1.206 and the Standard Review Plan 16.0, and any related guidance documents.

Disposition: On October 8, 2008, the staff issued the proposed ISG “Interim Staff Guidance on the Necessary Content of Plant-Specific Technical Specifications for a Combined License,” (DC/COL-ISG-008) (ADAMS Accession No. ML082520707) to solicit public and industry comment. The staff did not receive any comments on the draft ISG. Therefore, the ISG is now being issued for use.

ADDRESSES: The NRC maintains an ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at pdr.resource@nrc.gov.

FOR FURTHER INFORMATION CONTACT: Mr. Michael L. Marshall, Technical Specification Branch, Division of Construction, Inspection, & Operational Programs, Office of the New Reactors, U.S. Nuclear Regulatory Commission, Washington, DC 20555-0001; telephone 301-415-0539 or e-mail at michael.marshall@nrc.gov.

SUPPLEMENTARY INFORMATION: The agency posts its issued staff guidance in the agency external Web page (http://www.nrc.gov/reading-rm/doc-collections/isg/).

Dated at Rockville, Maryland, this 9th day of December 2008.
For the Nuclear Regulatory Commission.
William D. Reckley,
Chief, Rulemaking and Guidance Development Branch, Division of New Reactor Licensing, Office of New Reactors.

[FR Doc. E8-29906 Filed 12-16-08; 8:45 am]

BILLING CODE 7590-01-P